DEPARTMENT OF COMMERCE

International Trade Administration

[C-401-401]

Certain Carbon Steel Products From Sweden; Final Results of Expedited Sunset Review of Countervailing Duty Order

AGENCY: Import Administration, International Trade Administration, Department of Commerce.

ACTION: Notice of final results of expedited sunset review: Certain carbon steel products from Sweden.

SUMMARY: On September 1, 1999, the Department of Commerce (“the Department”) initiated a sunset review of the countervailing duty order on certain carbon steel products from Sweden (64 FR 47767) pursuant to section 751(c) of the Tariff Act of 1930, as amended (“the Act”). On the basis of a notice of intent to participate and adequate substantive comments filed on behalf of the domestic interested parties, as well as inadequate response from respondent interested parties, the Department determined to conduct an expedited (120-day) sunset review. Based on our analysis of the comments received, we find that revocation of the countervailing duty order would be likely to lead to continuation or recurrence of a countervailable subsidy at the levels listed below in the section entitled Final Results of the Review.

EFFECTIVE DATE: April 7, 2000.

FOR FURTHER INFORMATION CONTACT: Kathryn B. McCormick or Melissa G. Skinner, Office of Policy for Import Administration, International Trade Administration, U.S. Department of Commerce, 14th Street and Constitution Avenue, NW, Washington, DC 20230; telephone: (202) 482-1930 or (202) 482-1560, respectively.

SUPPLEMENTARY INFORMATION:

The Applicable Statute

Unless otherwise indicated, all citations to the Act are references to the provisions effective January 1, 1995, the effective date of the amendments made to the Act by the Uruguay Round Agreements Act (“URAA”). In addition, unless otherwise indicated, all citations to the Department regulations are to 19 CFR Part 351 (1999). Guidance on methodological or analytical issues relevant to the Department's conduct of sunset reviews is set forth in the Department Policy Bulletin 98:3—Policies Regarding the Conduct of Five-year (“Sunset”) Reviews of Antidumping and Countervailing Duty Orders; Policy Bulletin, 63 FR 18871 (April 16, 1998) (Sunset Policy Bulletin).

Background

On September 1, 1999, the Department initiated a sunset review of the countervailing duty order on carbon steel products from Sweden (64 FR 47767), pursuant to section 751(c) of the Act. The Department received a notice of intent to participate on behalf of Bethlehem Steel Corporation, Inland Ispat Inc., LTV Steel Company, Inc., National Steel Corporation, and U.S. Steel Group, a unit of USX Corporation (“domestic interested parties”), within the applicable deadline (September 15, 1999) specified in section 351.218(d)(1)(i) of the Sunset Regulations. Domestic interested parties claimed interested-party status under section 771(9)(C) of the Act, as U.S. producers of a domestic like product.

On September 24, 1999, we received a request for an extension to file rebuttal comments from domestic interested parties.¹ Pursuant to 19 CFR 351.302(b), the Department extended the deadline for all participants eligible to file rebuttal comments until October 15, 1999.²

¹ See September 24, 1999, Request for an Extension to File Rebuttal Comments in the Sunset Reviews of Antidumping and Countervailing Duty Orders: A-602-803; A-351-817; C-351-818, A-122-822, A-122-823, A-405-802, A-588-826, A-421-804, A-455-802, A-485-803, C-401-401, C-401-804, C-401-805, from Valerie S. Schindler, Skadden, Arps, Slate, Meagher & Flom LLP, to Jeffrey A. May, Office of Policy.

² See September 30, 1999, Letter from Jeffrey A. May, Director, Office of Policy to Valerie S. Schindler, Skadden, Arps, Slate, Meagher & Flom LLP.

On October 1, 1999, we received a complete substantive response from domestic interested parties, within the 30-day deadline specified in the Sunset Regulations under section 351.218(d)(3)(i). Domestic interested parties claim that United States Steel Corporation (“USSC”) now USX, was the petitioner in the original investigation, and one or more of the domestic interested parties participated in all subsequent administrative reviews (see October 1, 1999, Substantive Response of domestic interested parties at 5).

On September 29, 1999, and we received a response from the European Union Delegation of the European Commission (“EC”) expressing its intent to participate in this review as the authority responsible for defending the interest of the Member States of the European Union (see September 29, 1999, Substantive Response of the EU at 3). On September 30, 1999, we received a response from the Government of Sweden (“GOS”) expressing its intent to participate in this review, as the government of a country in which subject merchandise is produced and exported. The GOS notes that it has in the past participated in this proceeding (see September 30, 1999, Substantive Response of GOS at 2).

The Department did not receive a substantive response from any foreign producer/exporter of the subject merchandise as defined under section 771(9)(A) of the Act. Thus, pursuant to section 351.218(e)(1)(ii)(A) of the Sunset Regulations, the Department determined the EC's and GOS's substantive responses to be inadequate for purposes of conducting a full review. Consequently, on October 21, 1999, pursuant to 19 CFR 351.218 (e)(1)(ii)(A), the Department determined to conduct an expedited (120-day) sunset review of this order.³

³ See October 20, 1999, Memorandum for Jeffrey A. May, Re: Certain Carbon Steel Products from Sweden: Adequacy of Respondent Interested Party Response to the Notice of Initiation.

The Department did not receive rebuttal comments from any interested parties.

In accordance with section 751(c)(5)(C)(v) of the Act, the Department may treat a review as extraordinarily complicated if it is a review of a transition order (i.e., an order in effect on January 1, 1995). This review concerns a transition order within the meaning of section 751(c)(6)(i) of the Act. Accordingly, on December 22, 1999, the Department determined that the sunset review of cold-rolled carbon steel products from Sweden is extraordinarily complicated, and extended the time limit for completion of the final results of this review until not later than March 29, 2000, in accordance with section 751(c)(5)(B) of the Act.⁴

⁴ See Extension of Time Limit for Final Results of Expedited Five-Year Reviews, 64 FR 71726 (December 22, 1999).

Scope of Review

The scope of this order covers carbon steel products from Sweden. These products include cold-rolled carbon steel, flat-rolled products, whether or not corrugated, or crimped; whether or not pickled, not cut, not pressed and not stamped to non-rectangular shape; not coated or plated with metal and not clad; over 12 inches in width and of any thickness; whether or not in coils. Such merchandise is classifiable under the Harmonized Tariff Schedule (“HTS”) item numbers: 7209.11.0000, 7209.12.0000, 7209.13.0000, 7209.21.0000, 7209.22.0000, 7209.23.0000, 7209.24.5000, 7209.31.0000, 7209.32.0000, 7209.33.0000, 7209.34.0000, 7209.41.0000, 7209.43.0000, 7209.44.0000, 7209.90.0000, 7211.30.5000, 7211.41.7000, and 7211.49.5000. The written description remains dispostive.

Analysis of Comments Received

All issues raised in substantive responses by parties to this sunset review are addressed in the Issues and Decision Memorandum (“Decision Memo”) from Jeffrey A. May, Director, Office of Policy, Import Administration, to Robert S. LaRussa, Assistant Secretary for Import Administration, dated March 29, 2000, which is hereby adopted by this notice. The issues discussed in the attached Decision Memo include the likelihood of continuation or recurrence of subsidy, the net countervailable subsidy likely to prevail were the order revoked, and the nature of the subsidy. Parties can find a complete discussion of all issues raised in this review and the corresponding recommendations in this public memorandum which is on file in B-099, the Central Records Unit, of the main Commerce building.

In addition, a complete version of the Decision Memo can be accessed directly on the Web at www.ita.doc.gov/import_admin/records/frn. The paper copy and electronic version of the Decision Memo are identical in content.

Final Results of Review

As a result of this review, the Department finds that revocation of the countervailing duty order would likely lead to continuation or recurrence of a countervailable subsidy at the rate listed below for all Swedish producers/exporters, except for Surahammars Bruk AB, which was excluded from the order:

Producer/exporter | Net countervailable subsidy (percent)
All Producers/Exporters from Sweden | 8.77

Nature of the Subsidy

In the Sunset Policy Bulletin, the Department states that, consistent with section 752(a)(6) of the Act, the Department will provide to the Commission information concerning the nature of the subsidy, and whether the subsidy is a subsidy described in Article 3 or Article 6.1 of the Subsidies Agreement. Because some programs not falling within the definition of an export subsidy under Article 3.1(a) of the Subsidies Agreement, could be found to be inconsistent with Article 6 if the net countervailable subsidy exceeds five percent (as measured in accordance with Annex IV of the Subsidies Agreement), we are providing the Commission with program descriptions in our Decision Memo.⁵

⁵ We note that as of January 1, 2000, Article 6.1 has ceased to apply (see Article 31 of the Subsidies Agreement).

This notice also serves as the only reminder to parties subject to administrative protective orders (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing this determination and notice in accordance with sections section 751(c), 752, and 777(i) of the Act.

Dated: March 29, 2000.
Joseph A. Spetrini,
Acting Assistant Secretary for Import Administration.

[FR Doc. 00-8692 Filed 4-6-00; 8:45 am]

BILLING CODE 3510-DS-P